NATIONAL SCIENCE FOUNDATION

Sunshine Act Meetings

FEDERAL REGISTER CITATION OF PREVIOUS ANNOUNCEMENT: The meeting was noticed on March 26, 2025, at 90 FR 13787.

PREVIOUSLY ANNOUNCED TIME AND DATE OF THE MEETING: Tuesday, April 1, 2025, from 4:00-5:00 p.m. EDT.

CHANGES IN THE MEETING: The date and time of the meeting has changed to Wednesday, April 9, 2025, from 9:00-10:00 p.m. EDT.

CONTACT PERSON FOR MORE INFORMATION: Point of contact for this meeting is: Chris Blair, cblair@nsf.gov, 703/292-7000.

Christopher Blair,
Executive Assistant to the National Science Board Office.

[FR Doc. 2025-05737 Filed 3-31-25; 4:15 pm]

BILLING CODE 7555-01-P